DEPARTMENT OF ENERGY

Federal Energy Regulatory Commission

[Docket No. CP05-80-000]

Kinder Morgan Interstate Gas Transmission LLC; Notice of Request Under Blanket Authorization

March 4, 2005.

Take notice that on February 25, 2005, Kinder Morgan Interstate Gas Transmission LLC (KMIGT), P.O. Box 281304, Lakewood, Colorado 80228-8304, filed in Docket No. CP05-80-000, an application pursuant to sections 157.205 and 157.208 of the Commission's regulations under the Natural Gas Act (NGA) as amended, for authorization to increase the maximum allowable operating pressure (MAOP) of approximately 9.5 miles along its Segment 140 pipeline, located in Phillips County, Colorado, from 800 psig to 1141 psig, under KMIGT's blanket certificate issued in Docket Nos. CP83-140-000 and CP83-140-001 pursuant to section 7 of the NGA, all as more fully set forth in the application which is on file with the Commission and open to public inspection.

Any questions concerning this application may be directed to Skip George, Manager of Certificates, at (303) 763-3581 or facsimile at (303) 914-4969.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E5-1043 Filed 3-11-05; 8:45 am]

BILLING CODE 6717-01-P